ENVIRONMENTAL PROTECTION AGENCY

40 CFR Part 271

[FRL-7505-1]

Utah: Final Authorization of State Hazardous Waste Management Program Revision

AGENCY: Environmental Protection Agency (EPA).

ACTION: Withdrawal of immediate final rule.

SUMMARY: We are withdrawing the immediate final rule for Utah: Final Authorization of State Hazardous Waste Management Program Revision published on April 10, 2003, which approved the tenth revision to Utah's Hazardous Waste Rules. We stated in the immediate final rule that if we received comments that oppose this authorization, we would publish a timely notice of withdrawal in the Federal Register. Subsequently, we received comments that oppose this action. We will address these comments in a subsequent final action based on the proposed rule also published on April 10, 2003, at 68 FR 17577.

DATES: As of May 29, 2003, we withdraw the immediate final rule published on April 10, 2003, at 68 FR 17556.

FOR FURTHER INFORMATION CONTACT: Kris Shurr (8P-HW), phone number: (303) 312-6312, 999 18th Street, Suite 300, Denver, Colorado 80202-2466, email: shurr.kris@epa.gov.

SUPPLEMENTARY INFORMATION: Because we received comments that oppose this authorization, we are withdrawing the immediate final rule for Utah: Final Authorization of State Hazardous Waste Management Program Revision published on April 10, 2003, at 68 FR 17556, which intended to grant authorization for the tenth revision to Utah's Hazardous Waste Rules. We stated in the immediate final rule that if we received comments that opposed this action, we would publish a timely notice of withdrawal in the Federal Register. Subsequently, we received comments that opposed this action. We will address all comments in a subsequent final action based on the proposed rule previously published on April 10, 2003, at 68 FR 17577. We will not provide for additional public comment during the final action.

Dated: May 19, 2003.
Wanda C. Taunton,
Acting Regional Administrator, Region VIII.

[FR Doc. 03-13427 Filed 5-28-03; 8:45 am]

BILLING CODE 6560-50-P